DEPARTMENT OF HEALTH AND HUMAN SERVICES

National Institutes of Health

National Institute of General Medical Sciences Amended Notice of Meeting

Notice is hereby given of a change in the meeting of the National Institute of General Medical Sciences Special Emphasis Panel, June 26, 2018, 8:00 a.m. to June 26, 2018, 5:00 p.m., Courtyard by Marriott Chevy Chase, 5520 Wisconsin Avenue, Chevy Chase, MD 20815 which was published in the Federal Register on May 11, 2018, 83 FR 22090.

The meeting notice is amended to change the meeting title from Review of MIRA Applications to Review of NIGMS Support of Competitive Research (SCORE) Awards. The meeting is closed to the public.

Dated: May 23, 2018.
Melanie J. Pantoja,
Program Analyst, Office of Federal Advisory Committee Policy.

[FR Doc. 2018-11490 Filed 5-29-18; 8:45 am]

BILLING CODE 4140-01-P